DEPARTMENT OF HEALTH AND HUMAN SERVICES

Administration for Community Living

Agency Information Collection Activities; Proposed Collection; Public Comment Request; Revision of a Currently Approved Information Collection (ICR-Rev) (OMB Approval Number 0985-0004); Title III Supplemental Form to the Financial Status Report (SF-425)

AGENCY: Administration for Community Living, HHS.

ACTION: Notice.

SUMMARY: The Administration for Community Living (ACL) is announcing that the proposed collection of information listed above has been submitted to the Office of Management and Budget (OMB) for review and clearance as required under section 506(c)(2)(A) of the Paperwork Reduction Act of 1995 (the PRA). This 30-day notice requests comments on the information collection requirements related to the proposed revision of an existing data collection regarding the information collection requirements in the Title III Supplemental Form to the Financial Status Report for all ACL/AoA Title III Grantees.

DATES: Submit written or electronic comments on the collection of information by October 27, 2017.

ADDRESSES: Submit written comments on the collection of information: by fax at 202.395.5806 or by email to OIRA_submission@omb.eop.gov, Attn: OMB Desk Officer for ACL.

FOR FURTHER INFORMATION CONTACT: Jesse Moore at (202) 795-7578 or Jesse.Moore@acl.hhs.gov.

SUPPLEMENTARY INFORMATION: In compliance with Section 44 U.S.C. 3507, ACL has submitted the following proposed collection of information to OMB for review and clearance. ACL is requesting approval for three years of an extension of the currently approved data collection with modifications.

The Title III Supplemental Form to the Financial Status Report (SF-425) is used by ACL/AoA for all grantees to obtain a more detailed understanding of how projects funded under Title III of the Older Americans Act (OAA) of 1965, as amended, are being administered, and to ensure compliance with legislative requirements, pertinent Federal regulations and other applicable instructions and guidelines issued by the ACL. The level of data detail necessary is not available through the SF-425 form. The Supplemental Form provides necessary details on non-federal required match, administration expenditures, Older Relative Caregivers expenditures, and Long Term Care Ombudsman expenditures.

In addition to renewing OMB approval of this data collection, minor changes are being proposed to it to reflect changes in statutory language that occurred as a result of the 2016 reauthorization of the OAA. Specifically, the term “Grandparents Only” has been changed to “Older Relative Caregivers,” the new term in the OAA that describes this population of eligible service recipients. Similarly, the accompanying instructions for completing the Title III Supplemental Form to the Financial Status Report were also modified to include this same language. References in the Code of Federal Regulation (CFR) have been updated addressing financial reporting requirements and non-substantive technical edits have been made to the instructions.

Comments in Response to the 60 Day Federal Register Notice

A 60-day notice was published in the Federal Register in Vol. 82, No. 117, pg. 28068 on June 20, 2017. No comments were received.

Annual Burden Estimates

ACL estimates the burden of this collection of information as follows: 56 State Units on Aging (SUA) respond semi-annually which have an average estimated burden of 2 hours per grantee for a total of 112 hours per submission.

The proposed data collection tool may be found on the ACL Web site for review at: https://www.acl.gov/about-acl/public-input.

Respondent/data collection activity | Number of respondents | Responses per respondent | Hours per response | Total annual burden hours
Title III Supplemental Form to the Financial Status Report | 56 | 2/yr | 2 | 224
Total | 56 | 2/yr | 2 | 224

Dated: September 19, 2017.
Mary Lazare,
Principal Deputy Administrator.

[FR Doc. 2017-20666 Filed 9-26-17; 8:45 am]

BILLING CODE 4154-01-P